DEPARTMENT OF ENERGY

Federal Energy Regulatory Commission

[Docket No. RP19-211-000]

Notice of Technical Conference; Columbia Gulf Transmission, LLC

Take notice that a technical conference will be held on Wednesday, March 20, 2019 at 10:00 a.m. (Eastern Daylight Time) at the offices of the Federal Energy Regulatory Commission, 888 First Street NE, Washington, DC 20426.

At the technical conference, the parties to the proceeding should be prepared to discuss all issues raised in the November 29, 2018 order, Columbia Gulf Transmission, LLC, 165 FERC ¶ 61,181 (2018). All interested persons are permitted to attend.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference please contact Raymond Womble at (202)-502-8536 or Raymond.Womble@ferc.gov.

Dated: January 29, 2019.
Kimberly D. Bose,
Secretary.

[FR Doc. 2019-00974 Filed 2-4-19; 8:45 am]

BILLING CODE 6717-01-P